FEDERAL MARITIME COMMISSION

[Docket No. 13-02]

Lisa Anne Cornell and G. Ware Cornell, Jr. v. Princess Cruise Lines, Ltd. (Corp), Carnival PLC, and Carnival Corporation; Notice of Filing of Complaint and Assignment

Notice is given that a complaint has been filed with the Federal Maritime Commission (Commission) by Lisa Anne Cornell and G. Ware Cornell, Jr., hereinafter “Complainants,” against Princess Cruise Lines, Ltd (Corp), Carnival plc, and Carnival Corporation hereinafter “Respondents.” Complainant alleges that: Respondent Princess Cruise Lines, Ltd (Corp) “is a California corporation which operates pursuant to the Shipping Act of 1984 as a common carrier for hire of passengers from ports in the United States;” Respondent Carnival plc “is a corporation established under the laws of the United Kingdom which does business under the names of Cunard Line, P&O Cruises, and P&O Cruises Australia as a common carrier for hire of passengers from ports in the United States;” and Respondent Carnival Corporation “is the parent corporation of Princes and Carnival plc as well as other cruise lines which operate as common carriers for hire from ports in the United States.”

Complainant alleges that Respondents, by banning Complainants from traveling on ships operated by Princess and Carnival plc and failing to refund a deposit, violated 46 U.S.C. 41104(10) which provides that “[a] common carrier, either alone or in conjunction with any other person, directly or indirectly, may not * * * (10) unreasonably refuse to deal or negotiate * * *”

Complainant requests that “the Commission issue appropriate relief, including, but not limited to, entry of a final order enjoining the refusal to deal policy as to Lisa Cornell and Ware Cornell, entry of final order restoring all economic losses as set forth herein in the amount of $33,1000.00 and a award of fees and costs of action.”

The full text of the complaint can be found in the Commission's Electronic Reading Room at www.fmc.gov.

This proceeding has been assigned to the Office of Administrative Law Judges. The initial decision of the presiding officer in this proceeding shall be issued by February 10, 2014 and the final decision of the Commission shall be issued by June 9, 2014.

Karen V. Gregory,
Secretary.

[FR Doc. 2013-03322 Filed 2-12-13; 8:45 am]

BILLING CODE 6730-01-P